DEPARTMENT OF ENERGY

Federal Energy Regulatory Commission

[Docket No. RP03-592-000]

Destin Pipeline Company, L.L.C.; Notice of Tariff Filing

September 4, 2003.

Take notice that on August 29, 2003, Destin Pipeline Company, L.L.C. (Destin) tendered for filing as part of its FERC Gas Tariff, Original Volume No. 1, the revised tariff sheets listed on Appendix A to the filing, to become effective October 1, 2003.

Destin states that purpose of this filing is to revise and clarify its current Supply Pool procedures under Section 2.3 of the General Terms and Conditions. In order to provide shippers on the Destin system with additional flexibility to aggregate their service agreements at a pool point and conform this service to the transactional requirements associated with transportation currently provided under Destin's Rate Schedules FT-1, FT-2 and IT, Destin is revising Section 2.3 and the Pool Balancing Agreement to accommodate this service.

Destin states that copies of this filing on all affected shippers and applicable state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 10, 2003.

Magalie R. Salas,
Secretary.

[FR Doc. 03-23042 Filed 9-9-03; 8:45 am]

BILLING CODE 6717-01-P